DEPARTMENT OF TRANSPORTATION

Office of the Secretary

[Docket OST-2010-0025]

Approved Information Collection Extension Request; Disadvantaged Business Enterprise

AGENCY: Office of the Secretary, DOT.

ACTION: Notice and Request for Comments.

SUMMARY: In accordance with the Paperwork Reduction Act of 1995 (44 U.S.C. Chapter 35, as amended) this notice announces the Department of Transportation's (DOT) intention to request extension for a currently approved information collection.

DATES: Comments on this notice must be received by April 5, 2010.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave., SE., West Building Ground Floor, Room W12-140, Washington, DC 20590-0001;

• Hand delivery: West Building Ground Floor, Room W-12-140, 1200 New Jersey Ave., SE., between 9 a.m. and 5 p.m., Monday through Friday, except Federal holidays. The telephone number is 202-366-9329.

FOR FURTHER INFORMATION CONTACT: Mr. Robert C. Ashby, Office of the Secretary, Office of Assistant General Counsel for Regulation and Enforcement, Department of Transportation, 1200 New Jersey Ave., SE., Washington, DC 20590, (202) 366-9310 (voice), 202-366-9313 (fax) or at bob.ashby@dot.gov.

SUPPLEMENTARY INFORMATION: Title: Report of DBE Awards and Commitments.

OMB Control Number: 2105-0510.

Type of Request: Extension to a currently approved information collection.

Abstract: 49 CFR Part 26 establishes requirements for the Department of Transportation (DOT) so as to comply with the mandate by statute including 1101 (b) of the Safe, Accountable, Flexible, Efficient Transportation Equity Act: A Legacy for Users Public Law 109-59 and 49 U.S.C. 47113, Public Law 105-178. The key part of the collection is a requirement that state and local governments subject to the DBE program report to the Secretary of Transportation on DBE participation, as well as maintain a directory of DBE firms and report to the Secretary concerning the composition of the directory. If these reporting requirements were not available, firms controlled by minorities would not achieve the appropriate participation in DOT programs, and the Department would not be able to identify its recipients and evaluate the extent to which financial assistance recipients have been awarded a reasonable amount of contracting dollars to DBEs.

In order to minimize the burden on DOT recipients the Department has limited its informational request and reporting frequency to that necessary to meet its program and administrative monitoring requirements. The information request consists of 17 data items on one page and one attachment, to be completed on a semi-annual basis (for FHWA and FTA programs) or an annual basis (for FAA programs).

Respondents: DOT financially-assisted state and local transportation agencies.

Estimated Number of Respondents: 1,057.

Estimated Total Burden on Respondents: 1,311,000.

The information collection is available for inspection in regulations.gov, as noted in the ADDRESSES section of this document.

Comments are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval. All comments will also become a matter of public record.

Issued in Washington, DC, on January 28, 2010.
Robert C. Ashby,
Deputy Assistant General Counsel for Regulation and Enforcement.

[FR Doc. 2010-2235 Filed 1-29-10; 4:15 pm]

BILLING CODE 4910-9X-P